DEPARTMENT OF HEALTH AND HUMAN SERVICES

National Institutes of Health

Office of the Director, National Institutes of Health; Notice of Meeting

Pursuant to section 10(d) of the Federal Advisory Committee Act, as amended (5 U.S.C. App.), notice is hereby given of a meeting of the Advisory Committee to the Director, National Institutes of Health.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended because the premature disclosure of program documents—PAC and the discussions would likely to significantly frustrate implementation of recommendations.

Name of Committee: Advisory Committee to the Director, National Institutes of Health.

Date: June 13-14, 2013.

Open: June 13, 2013, 9:00 a.m. to 12:00 p.m.

Agenda: NIH Director's Report.

Place: National Institutes of Health, Building 31, 6th Floor, Conference Room 6C6, 31 Center Drive, Bethesda, MD 20892.

Closed: June 13, 2013, 1:00 p.m. to 2:00 p.m.

Agenda: To review and evaluate grant applications.

Place: National Institutes of Health, Building 31, 6th Floor, Conference Room 6C6, 31 Center Drive, Bethesda, MD 20892.

Open: June 13, 2013, 2:00 p.m. to 5:00 p.m.

Agenda: Updates and discussions on other committee business.

Place: National Institutes of Health, Building 31, 6th Floor, Conference Room 6C6, 31 Center Drive, Bethesda, MD 20892.

Open: June 14, 2013, 9:00 a.m. to 1:00 p.m.

Agenda: ACD Biomedical Workforce Working Group report.

Place: National Institutes of Health, Building 31, 6th Floor, Conference Room 6C6, 31 Center Drive, Bethesda, MD 20892.

Contact Person: Gretchen Wood, Staff Assistant, National Institutes of Health, Office of the Director, One Center Drive, Building 1, Room 103, Bethesda, MD 20892, 301-496-4272, woodgs@od.nih.gov.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Institute's/Center's home page: http://acd.od.nih.gov, where an agenda and any additional information for the meeting will be posted when available.

Dated: May 8, 2013.
Anna Snouffer,
Deputy Director, Office of Federal Advisory Committee Policy.

[FR Doc. 2013-11352 Filed 5-13-13; 8:45 am]

BILLING CODE 4140-01-P